DEPARTMENT OF COMMERCE

Foreign-Trade Zones Board

[B-56-2023]

Foreign-Trade Zone 61; Application for Subzone; PR Five Vega Alta, LLC; Vega Alta, Puerto Rico

An application has been submitted to the Foreign-Trade Zones (FTZ) Board by the Department of Economic Development and Commerce, grantee of FTZ 61, requesting subzone status for the facility of PR Five Vega Alta, LLC, located in Vega Alta, Puerto Rico. The application was submitted pursuant to the provisions of the Foreign-Trade Zones Act, as amended (19 U.S.C. 81a-81u), and the regulations of the FTZ Board (15 CFR part 400). It was formally docketed on November 1, 2023.

The proposed subzone (61.9878 acres) is located at Carr. 690, Km. 1.3, Vega Alta, Puerto Rico. No authorization for production activity has been requested at this time.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is December 18, 2023. Rebuttal comments in response to material submitted during the foregoing period may be submitted during the subsequent 15-day period to January 2, 2024.

A copy of the application will be available for public inspection in the “Online FTZ Information Section” section of the FTZ Board's website, which is accessible via www.trade.gov/ftz.

For further information, contact Camille Evans at Camille.Evans@trade.gov.

Dated: November 1, 2023.
Elizabeth Whiteman,
Executive Secretary.

[FR Doc. 2023-24480 Filed 11-3-23; 8:45 am]

BILLING CODE 3510-DS-P